DEPARTMENT OF LABOR

Employment and Training Administration

[TA-W-91,755]

Kraft Heinz Foods Company, a Subsidiary of the Kraft Heinz Company, Including On-Site Leased Workers From Kelly Services, U.S. Securities, West Side Hammer Electric, and Goodwill Keystone Area, Allentown, Pennsylvania; Amended Certification Regarding Eligibility To Apply for Worker Adjustment Assistance

In accordance with Section 223 of the Trade Act of 1974, as amended (“Act”), 19 U.S.C. 2273, the Department of Labor issued a Certification of Eligibility to Apply for Worker Adjustment Assistance on May 23, 2016, applicable to workers of Kraft Heinz Foods Company, a subsidiary of The Kraft Heinz Company, including on-site leased workers from Kelly Services, Allentown, Pennsylvania (TA-W-91,755). The Department's notice of determination was published in the Federal Register on June 28, 2016 (81 FR 41999).

At the request of the Pennsylvania Department's Workforce Partnership & Operations, the Department reviewed the certification for workers of the subject firm. The workers firm is engaged in activities related to the production of Tassimo Coffee Pods, K-cups, and condiments.

The company reports that workers leased from U.S. Securities, West Side Hammer Electric, and Goodwill Keystone Area were employed on-site at the Allentown, Pennsylvania location of Kraft Heinz Company. The Department has determined that these workers were sufficiently under the operational control of the subject firm to be considered leased workers.

The intent of the Department's certification is to include all workers of the subject firm who were adversely affected by a shift in production of Tassimo Coffee Pods, K-cups, and condiments to a foreign country.

Based on these findings, the Department is amending this certification to include workers leased from U.S. Securities, West Side Hammer Electric, and Goodwill Keystone Area working on-site at the Allentown, Pennsylvania location of the subject firm.

The amended notice applicable to TA-W-91,755 is hereby issued as follows:

All workers from Kraft Heinz Foods Company, a subsidiary of The Kraft Heinz Company, including on-site leased workers from Kelly Services, U.S. Securities, West Side Hammer Electric, and Goodwill Keystone Area, Allentown, Pennsylvania who became totally or partially separated from employment on or after April 28, 2015 through May 23, 2018 and all workers in the group threatened with total or partial separation from employment on date of certification through two years from the date of certification, are eligible to apply for adjustment assistance under Chapter 2 of Title II of the Trade Act of 1974, as amended.

Signed in Washington, DC, this 12th day of December, 2016.
Hope D. Kinglock,
Certifying Officer, Office of Trade Adjustment Assistance.

[FR Doc. 2017-01216 Filed 1-18-17; 8:45 am]

BILLING CODE P